DEPARTMENT OF THE INTERIOR

Bureau of Land Management

[PO #4820000251; Order #02412-014-004-047181.0]

Draft Environmental Impact Statement for Mojave Precious Metals Exploration Drilling Project, Ridgecrest, Inyo County, CA

AGENCY: Bureau of Land Management, Interior.

ACTION: Notice of availability.

SUMMARY: In compliance with the National Environmental Policy Act of 1969, as amended, and the Federal Land Policy and Management Act of 1976, as amended (FLPMA), the Bureau of Land Management (BLM) announces the availability of the draft environmental impact statement (EIS) for the Mojave Exploration Drilling Project.

DATES: To afford the BLM the opportunity to consider comments in the draft EIS, please ensure that the BLM receives your comments within 45 days following the date the Environmental Protection Agency (EPA) publishes its notice of availability (NOA) of the draft EIS in the Federal Register. The EPA usually publishes its NOAs on Fridays. The BLM will hold a public meeting. The specific date, time, and location of the public meeting will be announced at least 15 days before the meeting on the BLM website www.blm.gov/california.

ADDRESSES: The draft EIS and associated documents are available for review on the BLM project website at https://eplanning.blm.gov/eplanning-ui/project/2022050/510. Written comments related to the Mojave Exploration Drilling Project may be submitted by any of the following methods:

• ePlanning website: https://eplanning.blm.gov/eplanning-ui/project/2022050/510.

• Email: BLM_CA_RI_MojavePMetals@blm.gov.

• Mail: Mojave Exploration Drilling Project EIS, c/o BLM Ridgecrest Field Office, 300 S. Richmond Road, Ridgecrest, CA 93555.

Documents pertinent to the proposal may be examined at the BLM Ridgecrest Field Office, 300 S. Richmond Road, Ridgecrest, CA 93555.

FOR FURTHER INFORMATION CONTACT: Philip Desenze, Field Manager, telephone: (760) 384-6759; address: Bureau of Land Management Ridgecrest Field Office, 300 S. Richmond Road, Ridgecrest, CA 93555; email: BLM_CA_RI_MojavePMetals@blm.gov. Individuals in the United States who are deaf, blind, hard of hearing, or have a speech disability may dial 711 (TTY, TDD, or TeleBraille) to access telecommunications relay services for contacting Mr. Desenze. Individuals outside the United States should use the relay services offered within their country to make international calls to the point-of-contact in the United States.

SUPPLEMENTARY INFORMATION:

Purpose and Need

The purpose of this Federal action is to respond to Mojave Precious Metal (MPM) Inc.'s proposal as described in its plan of operations modification and to analyze the environmental effects associated with the BLM's approval of MPM's proposal (Proposed Action) and possible alternatives. The need for the action is established by the BLM's responsibilities under the FLPMA and the BLM Surface Management Regulations at 43 CFR part 3800, subpart 3809, to respond to a proposed plan of operations or its modification.

Proposed Action and Alternatives

MPM is proposing to modify the existing, approved plan of operations. If approved, the modification would allow MPM to drill about 120 holes at up to 30 locations to gather data on known areas of gold mineralization. The plan modification would result in about 13 acres of new ground disturbance from access road reconstruction, drill pad and sump construction, and other associated activities.

• Proposed Action Alternative—MPM is proposing to conduct exploration drilling activities in west-central Inyo County, approximately 3.4 miles east of Keeler and 15.5 miles southeast of Lone Pine. Exploration drilling activities would occur on an estimated 120 drill holes at up to 30 locations to update and verify historical data and expand upon known areas of mineralization, including gold. Both diamond core drill rigs and reverse circulation drill rigs would be utilized to drill to depths averaging 984 feet (300 meters) below ground surface. Access to the drill sites would occur along a previously developed road using a combination of overland travel and reconstruction of the former road. The total estimated disturbance of the project would be about 13 acres. The project would operate 24 hours per day, 7 days a week for up to approximately 10 months and would require an estimated 2.9 million gallons of water. Reclamation of disturbed areas resulting from exploration operations would be completed in accordance with the BLM and California Surface Mining and Reclamation Act regulations.

• South Road Alternative—The South Road Alternative is an alternate access route to the drill sites in the project area. Construction, operations, reclamation activities, equipment and water use, workforce, surface disturbance acres, and project schedule would be the same as the Proposed Action. This alternative would rely more on overland travel and less on new road construction to access drill sites. However, this route includes areas of high gradient, which require State engineer approval, and poses additional safety risks to workers and the environment.

• Helicopter Only Alternative—Under this alternative, no roads would be constructed or overland travel routes utilized. Materials and equipment would be staged along an existing road and helicopters would transport people and materials to constructed drill pads. The estimated surface disturbance with this alternative would total about 3.80 acres. Due to the depths required for drilling, only diamond core drill rigs would be utilized, which would require an estimated 22 million gallons of water and would occur over an expected duration of 8.5 years. Helicopters would fly in and out of the Lone Pine Airport once per day, with additional helicopter flights occurring between the staging area and the Project area.

• No Action Alternative—Under the No Action Alternative, the project would not be developed, and MPM would not be authorized to conduct new exploration activities. The draft EIS identifies the Proposed Action Alternative as the BLM's preferred alternative.

Schedule for the Decision-Making Process

The final EIS is anticipated to be released in September 2025 with a record of decision by November 2025.

Lead and Cooperating Agencies

The BLM is the lead Federal agency for this draft EIS. The following have agreed to participate in the final environmental analysis of the project as cooperating agencies: The Fish and Wildlife Service, the EPA, and the National Park Service—Death Valley National Park, and Inyo County.

Public Involvement Process

The BLM will be holding a public meeting. The specific date, time, and location of the public meeting will be announced at least 15 days before the meeting on the BLM website https://www.blm.gov/california. The purpose of public review of the draft EIS is to provide an opportunity for meaningful collaborative public engagement and for the public to provide substantive comments, such as identification of factual errors, data gaps, or relevant methods.

The BLM will continue to consult with Indian Tribal Nations on a government-to-government basis in accordance with Executive Order 13175, BLM Manual 1780, and other Departmental policies. Tribal concerns, including impacts on Indian trust assets and potential impacts to cultural resources, will be given due consideration.

Before including your address, phone number, email address, or other personal identifying information in your comment, you should be aware that your entire comment—including your personal identifying information—may be made publicly available at any time. While you can ask us in your comment to withhold your personal identifying information from public review, we cannot guarantee that we will be able to do so.

(Authority: 43 CFR 46.435)

Brandon Anderson,
Bureau of Land Management, California Desert District Manager (Acting).

[FR Doc. 2025-07537 Filed 5-1-25; 8:45 am]

BILLING CODE 4331-15-P